DEPARTMENT OF TRANSPORTATION

Federal Aviation Administration

14 CFR Part 71

[Docket No. FAA-2001-10432; Airspace Docket No. 01-AWA-05]

RIN 2120-AA66

Proposed Modification of the Santa Ana Class C Airspace Area; CA

AGENCY: Federal Aviation Administration (FAA), DOT.

ACTION: Notice of proposed rulemaking (NPRM).

SUMMARY: This action proposes to modify the Santa Ana, CA, Class C airspace area. Specifically, this proposed rule would standardize and complete the 5 nautical mile (NM) inner circle; re-align the south and southwest quadrants; and, expand the north and east boundaries of the Santa Ana Class C airspace area. The FAA is proposing this action to improve the management of aircraft operations in the Santa Ana, CA, terminal area; enhance safety; reduce the potential for midair collision in the Santa Ana Class C airspace area, and accommodate the concerns of airspace users.

DATES: Comments must be received on or before March 8, 2002.

ADDRESSES: Send comments on this proposal to the Docket Management System, U.S. Department of Transportation, Room Plaza 401, 400 Seventh Street, SW., Washington, DC 20591-0001. You must identify the docket number FAA-2001-10432/Airspace Docket No. 01-AWA-05, at the beginning of your comments.

You may also submit comments on the Internet at http://dms.dot.gov. You may review the public docket containing the proposal, any comments received, and any final disposition in person in the Dockets Office between 9:00 a.m. and 5:00 p.m., Monday through Friday, except Federal holidays. The Docket Office (telephone number: 1-800-647-5527) is on the plaza level of the Department of Transportation NASSIF Building at the above address.

An informal docket may also be examined during normal business hours at the office of the Regional Air Traffic Division, Federal Aviation Administration, 15000 Aviation Boulevard, Hawthorne, CA 90261.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers and be submitted in triplicate to the address listed above. Commenters wishing the FAA to acknowledge receipt of their comments on this notice must submit with those comments a self-addressed, stamped postcard on which the following statement is made: “Comments to Docket No. FAA-2001-10432/Airspace Docket No. 01-AWA-05.” The postcard will be date/time stamped and returned to the commenter.

All communications received on or before the specified closing date for comments will be considered before taking action on the proposed rule. The proposal contained in this notice may be changed in light of comments received. All comments submitted will be available for examination in the Rules Docket both before and after the closing date for comments. A report summarizing each substantive public contact with FAA personnel concerned with this rulemaking will also be filed in the docket.

Availability of NPRM's

An electronic copy of this document may be downloaded through the Internet at http://dms.dot.gov. Recently published rulemaking documents can also be accessed through the FAA web page at http://www.faa.gov or the Superintendent of Document's web page at http://www.access.gpo.gov/nara.

Additionally, any person may obtain a copy of this notice by submitting a request to the Federal Aviation Administration, Office of Air Traffic Airspace Management, ATA-400, 800 Independence Avenue, SW., Washington, DC 20591, or by calling (202) 267-8783. Communications must identify both docket numbers for this notice. Persons interested in being placed on a mailing list for future NPRM's should call the FAA's Office of Rulemaking, (202) 267-9677, for a copy of Advisory Circular No. 11-2A, Notice of Proposed Rulemaking Distribution System, which describes the application procedure.

Background

In early 2001, the Southern California TRACON (SCT), and a California Users Group (an ad hoc committee that represents all major airspace users) reviewed the current Santa Ana Class C airspace area. The revocation of the El Toro Class C airspace area, which left the eastern side of the John Wayne Airport in Class E airspace instead of Class C airspace, prompted the review. The Technical Committee of the Southern California Users Group (SCAUWG) reviewed the Santa Ana Class C airspace area and developed recommendations for modifying the existing airspace design to provide pilots with a greater awareness of arriving and departing turbojet aircraft at John Wayne Airport, Santa Ana, CA.

As announced in the Federal Register (66 FR 13122), one pre-NPRM airspace meeting was held on March 28, 2001, at Los Alamitos Army Airfield, Los Alamitos, CA. The purpose of this meeting was to provide local airspace users with an opportunity to present input on planned airspace changes to the Santa Ana Airspace Area prior to initiating any regulatory action.

In response to the informal airspace meeting the FAA received six comments. The following is an analysis and FAA response to those comments.

Analysis of Comments

One commenter requested that the FAA establish a Visual Flight Rules (VFR) Corridor through the Santa Ana Class C airspace. The FAA does not agree with this comment. This proposed design would safely accommodate all flight operations at SNA and a VFR corridor would not significantly enhance VFR operations in the airspace. Because of the small size of the proposed area, those aircraft transiting the area that do not want to establish radio communication with ATC may choose to circumnavigate the Class C airspace area.

One commenter recommended that the Santa Ana Class C be modified to re-open V-8 at all altitudes to non-participating aircraft. The FAA does not agree with this comment. Currently the northwest corner of the existing Class C airspace overlaps a portion of V-8. This proposal does not change the overlap of Class C airspace over this airway. This airspace is needed to accommodate IFR arrivals. California Freeway 91 (Riverside Freeway) will continue to be used as a guide to VFR pilots transitioning this portion of the Class C airspace.

Several commenters suggested that the proposed Paradise VOR 215° radial might not be suitable for navigation and should be checked for suitability. The FAA re-checked the radial and found it to be within tolerance and completely suitable for navigation.

Several commenters objected to 5,400-foot ceiling south and west of the John Wayne airport but without suggesting an alternative altitude. The FAA has reviewed this area, and has determined that the 5,400-foot ceiling is necessary to accommodate air carrier arrivals and that lowering the ceiling would not provide adequate airspace for these operations.

Several comments stated that the proposed changes in the northeast corner infringe on Santa Ana Canyon by extending the Class C airspace over the canyon. The Airline Pilots Association opposed any reduction in proposed Class C boundaries because the instrument procedures on the east side of the airport must be contained in Class C airspace.

The FAA agrees with these comments and has proposed modifications to address each comment. The LAX 083° radial would be used to redefine the northeast corner of the Class C airspace area. Using this radial as a boundary would provide more Class E airspace between the Santa Ana and Ontario Class C airspace areas (Santa Ana Canyon Area), which would provide a wider route for nonparticipating aircraft. In addition, this change would still accommodate instrument procedures east of the airport and keep them in Class C airspace.

Several commenters stated generally that the proposed 2,000-foot floor should be raised to provide more Class E airspace for non-participating aircraft. The FAA does not agree with these comments because raising the floor above 2,000 feet would not provide adequate Class C airspace to accommodate all instrument procedures.

Comments were received suggesting the FAA use a circular design between 5- and 10-miles to provide additional Class C airspace. The FAA does not agree with these commenters. A standard circular design in this case would not meet the operational requirements around Santa Ana John Wayne Airport. Furthermore, 5- and 10-mile circles centered on the airport reference point would designate more Class C airspace than necessary and adversely impact general aviation operations in the area.

Three commenters recommended that the informal VFR practice area near El Toro remain open “as it is”. The FAA agrees and has raised the outer floor of the proposed Santa Ana John Wayne Airport (SNA) to accommodate the VFR practice area.

Written comments supporting the proposal were received from the Airline Transport Association; the Airline Pilots Association; International Airlines; America West Airlines; Northwest Airlines; and U.S. Airways. These users also requested that the FAA establish a Class B airspace area for SNA since that airport meets the candidacy requirements for Class B airspace as well. They also suggested that a 20-mile Mode C veil requirement be established around SNA as part of this notice.

Presently, the FAA utilizes certain criteria based on the number of passengers enplaned annually or the number of flight operations at the airport, in considering a given airport as a candidate for a Class B airspace designation. This criteria is only for determining candidacy. Meeting the criteria in and of itself does not guarantee that a Class B airspace area would be established at any particular location. A number of other factors, including traffic density, complexity, and operations conducted, must be carefully evaluated to determine whether a Class B airspace area is warranted. Most importantly, it must be demonstrated that the establishment of a Class B airspace area would enhance the safety and efficiency of airspace management. The FAA studied this airspace and found that the current Class C airspace has areas of inefficiencies, areas where turbojet aircraft are not adequately accommodated, and areas in need of modification. The FAA concluded that enhancement of the existing Class C airspace sufficiently would address these issues and the establishment of Class B airspace was not warranted at this time.

The FAA Transponder with Automatic Altitude Reporting Capability Requirement Final Rule (commonly referred to as the “Mode C Rule”) requires all aircraft to have an altitude encoding transponder when operating within 30 NM of any designated Class B airspace area primary airport, from the surface up to 10,000 feet MSL. The recommendation for the establishment of a 20-mile Mode C veil at SNA is beyond the scope of this rulemaking.

The Proposed Amendment

The FAA proposes to amend 14 Code of Federal Regulations (CFR) part 71 by modifying the Santa Ana, CA, Class C airspace area. Specifically, this action proposes to expand Area A to a complete 5 NM circle, which would standardize the inner circle. Area B to the south and Area C to the southwest would also be re-aligned to provide additional airspace to accommodate Runway 1 arrivals. Proposed changes to Area F in the north would re-align the northern and eastern boundaries to improve efficiencies of Runway 19 arrivals. In addition, a new Area G is proposed on the east to accommodate instrument operations in an area formally within the revoked El Toro Class C airspace area. The FAA is making these changes to enhance safety; reduce the risk of midair collision; and improve the management of air traffic operations in the John Wayne terminal airspace area.

The FAA has determined that this regulation only involves an established body of technical regulations for which frequent and routine amendments are necessary to keep them operationally current. Therefore, this proposed action: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The coordinates for this airspace docket are based on North American Datum 83. Class C airspace designations are published in paragraph 4000 of FAA Order 7400.9H, dated September 1, 2001, and effective September 16, 2001, which is incorporated by reference in 14 CFR 71.1. The Class C airspace designation listed in this document would be published subsequently in the order.

Regulatory Evaluation Summary

Proposed changes to Federal Regulations must undergo several economic analyses. First, Executive Order 12866, directs that each Federal agency shall propose, or adopt, a regulation only upon a reasoned determination that the benefits of the intended regulation justify its costs. Second, the Regulatory Flexibility Act of 1980, requires agencies to analyze the economic impact of regulatory changes on small entities. Third, the Trade Agreements Act (19 U.S.C. section 2531-2533) prohibits agencies from setting standards that create unnecessary obstacles to the foreign commerce of the United States. In developing U.S. standards, this Trade Act requires agencies to consider international standards and, where appropriate, make them the basis of U.S. standards. Fourth, the Unfunded Mandates Reform Act of 1995, requires agencies to prepare a written assessment of the costs, benefits, and other effects of proposed or final rules. This would include a Federal mandate likely to result in the expenditure by State, local or tribal governments, in the aggregate, or by the private sector, of $100 million or more, in any one year (adjusted for inflation).

However, for regulations with an expected minimal impact the above-specified analyses are not required. Department of Transportation Order DOT 2100.5, prescribes policies and procedures for simplification, analysis, and review of regulations. If it is determined that the expected impact is so minimal that the proposal does not warrant a full evaluation, a statement to that effect and the basis for it is included in proposed regulation.

This NPRM would modify the Santa Ana, CA, Class C airspace Area. Specifically, this proposed rule would complete the 5 nautical mile (NM) inner circle for standardization, realign the south and southwest quadrants, and expand the north and east boundaries. The FAA has determined that the expansion of the north and east boundaries would result in minimal, if any, circumnavigation cost to general aviation operators. This assessment is based on the fact that aircraft operators could request clearance to operate within the proposed Class C airspace rather than navigate around it, and air traffic control will often grant them clearance. The FAA has also determined that the proposed rule would improve the flow of air traffic, while enhancing the level of safety. Therefore, the FAA has determined that the modification of the Santa Ana, CA, Class C airspace area would be cost-beneficial.

Initial Regulatory Flexibility Determination

The Regulatory Flexibility Act of 1980 (RFA) establishes “as a principle of regulatory issuance that agencies shall endeavor, consistent with the objective of the rule and of applicable statutes, to fit regulatory and informational requirements to the scale of the business, organizations, and governmental jurisdictions subject to regulation.” To achieve that principle, the Act requires agencies to solicit and consider flexible regulatory proposals and to explain the rationale for their actions. The Act covers a wide-range of small entities, including small businesses, not-for-profit organizations, and small governmental jurisdictions.

Agencies must perform a review to determine whether a proposed or final rule will have a significant economic impact on a substantial number of small entities. If the determination is that it will, the agency must prepare a regulatory flexibility analysis as described in the Act.

However, if an agency determines that a proposed or final rule is not expected to have a significant economic impact on a substantial number of small entities, section 605(b) of the 1980 act provides that the head of the agency may so certify and a regulatory flexibility analysis is not required. The certification must include a statement providing the factual basis for this determination, and the reasoning should be clear.

In view of the minimal cost impact of the rule, the FAA has determined that this final rule will not have a significant economic impact on a substantial number of small entities. Consequently, the FAA certifies that the rule will not have a significant economic impact on a substantial number of small entities.

International Trade Impact Analysis

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

In accordance with the above statute, the FAA has assessed the potential effect of this proposed rule and has determined that it would have only a domestic impact and therefore create no obstacles to the foreign commerce of the United States.

Unfunded Mandates Assessment

Title II of the Unfunded Mandates Reform Act of 1995 (the Act), enacted as Public Law 0104-4 on March 22, 1995, requires each Federal agency, to the extent permitted by law, to prepare a written assessment of the effects of any Federal mandate in a proposed or final agency rule that may result in the expenditure of $100 million or more (when adjusted annually for inflation) in any one year by State, local, and tribal governments in the aggregate, or by the private sector. Section 204(a) of the Act, 2 U.S.C. 1534(a), requires the Federal agency to develop an effective process to permit timely input by elected officers (or their designees) of State, local, and tribal governments on a proposed “significant intergovernmental mandate.” A “significant intergovernmental mandate” under the Act is any provision in a Federal agency regulation that would impose an enforceable duty upon State, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity for these small governments to provide input in the development of regulatory proposals.

This proposed rule does not contain any Federal intergovernmental or private sector mandates. Therefore, the requirements of Title II of the Unfunded Mandates Reform Act of 1995 do not apply.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9J, Airspace Designations and Reporting Points, dated August 31, 2001, and effective September 16, 2001, is amended as follows:

Paragraph 4000—Subpart C Class C airspace

* * * * *

Santa Ana, CA [Revised]

John Wayne Airport/Orange County, CA

(Lat. 33°40′32″N., long. 117°52′06″W.)

That airspace extending upward from the surface to and including 4400 feet MSL within a 5-mile radius of the John Wayne Airport/Orange County (SNA); that airspace extending upward from 1500 feet MSL to and including 5400 feet MSL beginning at a point southeast of SNA where the SNA 5NM radius and the POM 185T/170M radial intersect, then south via the POM 185T/170M radial to the SNA 10NM radius, then clockwise via the SNA 10NM radius to the PDZ 230T/215M radial, then north via the PDZ 230T/215M radial to the SNA 5NM radius, the counterclockwise via the SNA 5NM radius to the point of beginning; that airspace extending upward from 3500 feet MSL to and including 5400 feet MSL beginning at a point south of the SNA where the SNA 5NM radius and the PDZ 230T/215M radial intersect, then southwest via the PDZ 230T/215M radial to the SNA 10NM radius, then clockwise via the SNA 10NM radius to the 251T/237M degree bearing from SNA at 10NM, then north via a line extending between the SNA 251T/237M degree bearing at 10 NM and the SNA 351T/337M degree bearing at 10NM to the shoreline, then via the shoreline southeast to the point of beginning; that airspace extending upward from 2500 feet MSL to and including 5400 feet MSL beginning at a point south of the SNA where the SNA 5NM radius and the PDZ 230T/215M radial intersect then west via the shoreline to a line extending between the SNA 251T/237M degree bearing at 10NM and the SNA 351T/337M degree bearing at 10NM, then north via the line extending between the SNA 251T/237M degree bearing at 10NM and the SNA 351T/337M degree bearing at 10NM to the San Diego Freeway (I-405), then east via the San Diego Freeway (I-405) to the SNA 5NM radius, then counterclockwise via the 5NM radius to point of beginning; that airspace extended upward from 2500 feet MSL to and including 4400 feet MSL beginning west of SNA at a point where the SNA 5NM radius and the San Diego Freeway (I-405) intersect, then west via the San Diego Freeway (I-405) to a line extending between the SNA 251T/237M degree bearing at 10NM and the SNA 351T/337M degree bearing at 10NM, then north via the line extending between the SNA 251T/237M degree bearing at 10NM and the SNA351T/337M degree bearing at 10NM, the clockwise via the SNA 10NM radius to the SNA 360T/346M degree bearing, then south via the SNA 360T/346M degree bearing to the SNA 5NM radius, then counterclockwise via the SNA 5NM radius to the point of beginning; that airspace extending upward from 2000 feet MSL to and including 4400 feet MSL beginning at a point where the SNA 5NM and the SNA 360T/346M degree bearing intersect, then via the SNA 360T/346M degree bearing to the SNA 10NM radius, then via the SNA 10NM radius clockwise to the SLI 075T/060M radial to the LAX 098T/083M radial, then east via the LAX 098T/083M radial to the ELB 004T/350M radial, then south via the ELB 004T/350M radial to the PDZ 230T/215M radial, then southwest via the PDZ230T/215M radial to the SNA 5NM radius, then counterclockwise via the SNA 5NM radius to the point of beginning; that airspace extending upward from 3500 feet MSL to and including 4400 feet MSL beginning northeast of SNA at a point where the SNA 5NM and the PDZ 230T/215M radial intersect, then northeast via the PDZ 230T/215M radial to the ELB 004T/350M radial, then north via the ELB 004T/350M radial, to the LAX 098T/083M radial to POM 157T/142M radial, then south via the POM 157T/142M radial to the ELB 054T/040M radial, then southwest via ELB 054T/040M radial to ELB, then south via the ELB 184T/170M radial to the SNA 10NM radius, then clockwise via the SNA 10NM radius to the POM 185T/170M radial, then north via POM 185T/170M radial to the SNA 5NM radius, then counterclockwise via the SNA 5NM radius to the point of beginning. This Class C airspace area is effective during the specific days and hours of operation of the Orange County Tower as established in advance by a Notice to Airman. The effective dates and times will thereafter be continuously published in the Airport/Facility directory.

* * * * *

Issued in Washington, DC, on January 14, 2002.
Reginald C. Matthews,
Manager, Airspace and Rules Division.

[FR Doc. 02-1373 Filed 1-18-02; 8:45 am]

BILLING CODE 4910-13-P